DEPARTMENT OF THE INTERIOR

Bureau of Land Management

[LLNVS03000. L51010000.ER0000. LVRWF1204100; N-85801, N-89530, N-90050, and N-90823; MO#4500039783; TAS: 14X5017]

Notice of Availability of the Draft Supplemental Environmental Impact Statement and the Draft Resource Management Plan Amendment for the Proposed Silver State Solar South Project in Clark County Near Primm, NV

AGENCY: Bureau of Land Management, Interior.

ACTION: Notice of Availability.

SUMMARY: In accordance with the National Environmental Policy Act of 1969, as amended (NEPA), and the Federal Land Policy and Management Act of 1976, as amended, the Bureau of Land Management (BLM) has prepared a Draft Supplemental Environmental Impact Statement (EIS) and a Draft Resource Management Plan (RMP) Amendment for the proposed Silver State Solar South Project located on public lands east of Primm, Nevada, and by this notice is announcing the opening of the comment period.

DATES: To ensure that comments will be considered, the BLM must receive written comments on the Draft Supplementary EIS and the Draft RMP Amendment within 90 days following the date the Environmental Protection Agency publishes its Notice of Availability in the Federal Register. The BLM will announce future meetings or hearings and any other public involvement activities at least 15 days in advance through public notices, media releases, and/or mailings.

ADDRESSES: You may submit comments related to the Silver State Solar South Project by any of the following methods:

• Web site: http://www.blm.gov/nv/st/en/fo/lvfo/blm_programs/energy/Silver_State_Solar_South.html.

• Email: SilverStateSouthEIS@blm.gov.

• Fax: 702-515-5155, attention Gregory Helseth.

• Mail: Bureau of Land Management, Las Vegas Field Office, Attn: Gregory Helseth, 4701 North Torrey Pines Drive, Las Vegas, NV 89130-2301.

Copies of the Silver State Solar South Project Draft Supplemental EIS and the Draft RMP Amendment are available in the BLM Southern Nevada District Office at the above address and on the project Web site.

FOR FURTHER INFORMATION CONTACT: Gregory Helseth, Renewable Energy Project Manager, at 702-515-5173; or address 4701 North Torrey Pines Drive, Las Vegas, Nevada 89130-2301; or email ghelseth@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Silver State Solar, LLC, has submitted a right-of-way (ROW) application for the construction, operation, maintenance, and termination of a solar energy generation facility on 13,183 acres of public land east of Primm, Nevada. The ROW application is assigned BLM case number N-89530. This application expands on the previously considered ROW application N-85801. The proposed solar energy project would consist of photovoltaic (PV) panels and related infrastructure ROW appurtenances, including a substation and switchyard facilities, and would produce about 350 megawatts (MW) of electricity. The solar field and infrastructure would consist of single-axis tracker systems or fixed panels, an underground and overhead electrical power collection system, two step-up transformers, 230 kilovolt (kV) and 220 kV transmission lines, an operation and maintenance area, a switchyard, paved access and maintenance roads, flood and drainage controls, and a fire break.

The Silver State Solar South Project Draft Supplemental EIS will address the new application N-89530 and update as necessary the consideration of N-85801, which was initially analyzed in the Final EIS for the Silver State Solar North Project. The approved Silver State Solar North Project did not authorize ROW application N-85801. The BLM approved a Record of Decision on October 12, 2010, for the Silver State Solar North Project and authorized ROW N-85077 for the construction and operation of a 50 MW PV solar energy facility on 618 acres of BLM administered lands adjacent to the Silver State South project area. The application for N-85801 is now included as part of the Silver State Solar South Project, along with ROW application N-89530. If the BLM approves ROW application N-89530, the BLM will also need to amend the October 1998 Las Vegas RMP to address proposed changes in land and resource use within the Jean Lake/Roach Lake Special Recreation Management Area (SRMA).

The Draft Supplemental EIS analyzes the site-specific impacts on air quality, biological resources, cultural resources, special designations (SRMA), water resources, and geological resources and hazards. The document will also analyze land and airspace use, noise, paleontological resources, public health, socioeconomics, soils, traffic and transportation, visual resources, wilderness characteristics, waste management, worker safety, fire protection, and hazardous materials handling; as well as facility-design engineering, efficiency, reliability, transmission-system engineering, transmission line safety, and nuisance issues.

By this notice, the BLM is complying with requirements in 43 CFR 1610.2(c) to notify the public of potential amendments to land use plans. The BLM will integrate the land use planning process with the NEPA process for this project. Besides the SRMA, the BLM will consider additional plan amendments to the Las Vegas RMP, including a proposed nomination for an Area of Critical Environmental Concern (ACEC) within the Ivanpah Valley and a Visual Resource Management (VRM) change within the project boundary from Class III to Class IV.

As required by 43 C.F.R. 1610.7-2(b), the BLM is also taking public comments on the proposed ACEC. In order to adequately protect the relevant and important values in the proposed 40,180-acre ACEC, the BLM is evaluating whether to impose the following new restrictions:

○ Retaining the lands in Federal ownership;

○ Allowing facilities that provide resource protection;

○ Enhancing the relevant and important (R&I) values and/or addressing human health and safety on a case-by-case basis;

○ Imposing a linear ROW avoidance restriction;

○ Excluding large site-type ROWs (greater than 5 acres);

○ Restoring temporary disturbances to meet the standard BLM restoration standards; and

○ Allowing land use authorizations and small site-type ROWs (5 acres or less) on a case-by-case basis.

The proposed ACEC would be open to locatable mineral development and closed to solid leasable mineral development. Fluid leasable mineral development would be allowed with controlled surface use restrictions; the BLM may require that a proposed facility or activity be relocated by more than 200 meters from a proposed location as necessary to achieve the desired level of resource protection. Saleable mineral disposals that provide resource protection, enhancement of the R&I values and/or address human health and safety would be allowed on a case-by-case basis.

The proposed ACEC would be closed to livestock grazing.

The BLM would limit development of recreation facilities to those necessary for resource protection only. Off-highway vehicle (OHV) use would be limited to designated routes, and permitted non-speed recreation activities in the ACEC would require a desert tortoise spotter during the tortoise active season. In addition, the BLM would monitor the activities to ensure tortoises are not affected.

For sensitive species, the BLM would allow prescribed fire use to meet resource objectives and habitat enhancement purposes in appropriate areas to support habitat recovery objectives and allow use of approved herbicides following ground-disturbing activities in order to implement invasive species control methods and support habitat recovery objectives. Military maneuvers would not be authorized. Activities that result in loss or degradation of tortoise habitat would require reclamation so that pre-disturbance conditions may be reached within a reasonable time frame; reclamation may include, but is not limited to, salvaging and transplanting cactus and yucca, recontouring of the area, scarifying compacted soil, adding soil amendments, seeding, and transplanting of seedling shrubs. Subsequent seeding or transplanting efforts may be required if monitoring indicates that the original effort was not successful. Alternative B and C would not designate an ACEC; however, the BLM would manage the area as part of an SRMA.

The visual resource class change from Class III to Class IV would only apply to the project site and applies to alternatives B, C and D.

The BLM will use and coordinate the NEPA comment process to satisfy the public involvement process for Section 106 of the National Historic Preservation Act (16 U.S.C. 470(f)) as provided for in 36 CFR 800.2(d)(3). Native American tribal consultations have been conducted in accordance with policy. Tribal concerns have been given due consideration, including impacts on Indian trust assets.

The Draft Supplemental EIS analyzes four alternatives, including the no action alternative (Alternative A) and three action alternatives. Alternative B is Silver State's original proposal (as described in its Plan of Development dated July 2011). This alternative was introduced in initial scoping meetings and does not include perimeter roads. Alternative B would disturb up to 3,855 acres of Federal land. Alternative C would disturb up to 2,515 acres of Federal lands, and includes the project layout for Phases II and III that was previously evaluated in the 2010 Final EIS. Alternative D would disturb up to 3,091 acres of Federal land and is a modified layout of Silver State's original proposal (Alternative B above) to allow access through a historically used recreation route.

The BLM is required to select a preferred alternative for the RMP amendment; this decision is separate from whether a preferred alternative is identified for the proposed project. The BLM preferred alternative for the RMP amendment identified in the Draft Supplemental EIS is to (1) Reduce the acreage of the SRMA by the project footprint (if approved) and (2) To change the VRM class from VRM Class III to IV for the project footprint (if approved). There is no BLM preferred project alternative identified in the Draft Supplemental EIS so that the BLM can make best use of public input to reach an informed decision. Formal scoping for the project occurred from September 1 to October 31, 2011 (74 FR 31306). The BLM received a total of 55 comment submissions during the scoping period, identifying 201 issues. The comments identified concerns in a broad range of categories, including OHV access; recreation; socioeconomic resources; federally listed species and their habitat, including desert tortoise habitat and rare plants; surface water/storm runoff; alternatives for analysis; and cumulative impacts.

Maps of the proposed project area and the alternatives being analyzed in the Draft Supplemental EIS are available at the BLM Southern Nevada District Office and the Southern Nevada BLM energy Web site cited above. Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 16.

Vanessa Hice,
Assistant Field Manager, Division of Lands.

[FR Doc. 2012-25288 Filed 10-12-12; 8:45 am]

BILLING CODE 4310-HC-P